DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Progress Report: Cooperative Minimization of the Incidental Catch of Pacific Halibut.

OMB Control Number: 0648-xxxx.

Form Number(s): NA.

Type of Request: Regular submission (request for a new information collection).

Number of Respondents: 6.

Average Hours per Response: 5 hours.

Burden Hours: 30.

Needs and Uses: This request is for a new information collection.

The North Pacific Fisheries Management Council (Council) passed a motion in February 2014 requesting that each sector in the Bering Sea and Aleutian Islands Management Area (BSAI) groundfish fisheries voluntarily provide a report to the Council on progress for implementing measures in their cooperative and inter-cooperative agreements to minimize the incidental catch of halibut. These progress reports are to be provided to the Council at its June 2014 meeting.

Affected Public: Business or other for-profit organizations.

Frequency: Annually.

Respondent's Obligation: Voluntary.

This information collection request may be viewed at reginfo.gov. Follow the instructions to review Department of Commerce collections currently under review by OMB.

Written comments and recommendations for the proposed information collection should be sent within 30 days of publication of this notice to OIRA_Submission@omb.eop.gov or faxed to (202) 395-5806.

Dated: May 13, 2014.
Gwellnar Banks,
Management Analyst, Office of the Chief Information Officer.

[FR Doc. 2014-11375 Filed 5-15-14; 8:45 am]

BILLING CODE 3510-22-P